SURFACE TRANSPORTATION BOARD

[Docket No. FD 36322]

Athens Transportation Partners, LLC—Acquisition Exemption—The Athens Line, LLC

Athens Transportation Partners, LLC (ATP) has filed a verified notice of exemption under 49 CFR 1150.31 to acquire from The Athens Line, LLC (Athens Line) approximately 6.5 miles of rail line in Athens, Ga., extending between milepost F-98.8 and milepost F-105.3. (the Line).

ATP states that Athens Line recently discontinued service over the Line ¹ and has agreed, subject to closing, to convey the Line and the appurtenant rights thereof to ATP pursuant to a Purchase and Sale Agreement. ATP states that it will assume the common carrier obligation for the Line and arrange for any common carrier service that may be required.

¹ See Athens Line—Discontinuance of Serv. Exemption—in Oconee & Clarke Ctys., Ga., AB 1274X (STB served Apr. 25, 2019).

ATP certifies that its projected annual revenues as a result of this transaction will not exceed those that would qualify it as a Class III rail carrier. ATP further certifies that its acquisition of the Line does not involve any provision or agreement that would limit future interchange with a third-party connecting carrier.

The transaction may be consummated on or after July 20, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than July 12, 2019 (at least seven days before the exemption becomes effective).

All pleadings, referring to Docket No. FD 36322, must be filed with the Surface Transportation Board either via e-filing or in writing addressed to 395 E Street SW, Washington, DC 20423-0001. In addition, a copy of each pleading must be served on ATP's representative, Paul A. Cunningham, Harkins Cunningham, LLP, 1700 K Street NW, Suite 400, Washington, DC 20006.

Board decisions and notices are available at www.stb.gov.

Decided: June 28, 2019.
By the Board, Allison C. Davis, Director, Office of Proceedings.
Jeffrey Herzig,
Clearance Clerk.

[FR Doc. 2019-14260 Filed 7-2-19; 8:45 am]

BILLING CODE 4915-01-P